DEPARTMENT OF ENERGY

Federal Energy Regulatory Commission

[Docket No. CP15-14-001]

Texas Gas Transmission, LLC; Notice of Filing

Take notice that on March 30, 2015, Texas Gas Transmission, LLC (Texas Gas) filed an amendment, pursuant to section 7(c) of the Natural Gas Act and Part 157 of the Commission's Regulations, for the Southern Indiana Market Lateral Project extending from Henderson County, Kentucky to Mount Vernon, Posey County, Indiana. The application of the Southern Indiana Market Lateral Project was originally filed on November 12, 2014 in Docket No. CP15-14-000. The amended filing may be viewed on the web at http://www.ferc.gov using the “eLibrary” link. Enter the docket number excluding the last three digits in the docket number field to access the document. For assistance, contact FERC at FERCOnlineSupport@gerc.gov or call toll-free, (886) 208-3676 or TYY, (202) 502-8659.

Any questions regarding this application should be directed to J. Kyle Stephens, Vice President, Regulatory Affairs & Rates, Texas Gas Transmission, LLC, 9 Greenway Plaza, Suite 2800, Houston, Texas 77046, telephone (713) 479-8059, fax (866) 459-7336, and email: Kyle.Stephens@bwpmlp.com.

Texas Gas states that one of two new proposed industrial customers decided to cancel its participation in the project. To accommodate this change, Texas Gas proposes (1) to construct and operate an approximately 30.6-mile, 10-inch-diameter pipeline lateral with a capacity of 53.5 MMcf/day, instead of the originally proposed approximately 29.9 miles, 20-inch-diameter pipeline with a capacity of 166 MMcf/day; and (2) to remove the proposed construction of the metering facilities designed to serve the departing prospective customer. No new landowners are affected by the amended project. The cost of the amended project is approximately $63 million instead of $79.7 million as originally proposed.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 5 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of any mailed environmental documents, and will be notified of any meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Motions to intervene, protests and comments may be filed electronically via the internet in lieu of paper; see, 18 CFR 385.2001(a)(1)(iii) and the instructions on the Commission's Web site under the “e-Filing” link. The Commission strongly encourages electronic filings.

Comment Date: 5:00 p.m. Eastern Time on April 22, 2015.

Dated: April 1, 2015.
Kimberly D. Bose,
Secretary.

[FR Doc. 2015-07923 Filed 4-6-15; 8:45 am]

BILLING CODE 6717-01-P